FEDERAL COMMUNICATIONS COMMISSION

47 CFR Part 54

Universal Service

CFR Correction

In Title 47 of the Code of Federal Regulations, Parts 40 to 69, revised as of October 1, 2017, on page 206, in § 54.507, the second paragraph (f) is removed.

[FR Doc. 2018-14186 Filed 6-29-18; 8:45 am]

BILLING CODE 1301-00-D